DEPARTMENT OF TRANSPORTATION

Federal Aviation Administration

14 CFR Part 39

[Docket No. FAA-2006-25722; Directorate Identifier 2006-NM-141-AD; Amendment 39-14749; AD 2006-18-10]

RIN 2120-AA64

Airworthiness Directives; Airbus Model A340-541 and -642 Airplanes

AGENCY: Federal Aviation Administration (FAA), Department of Transportation (DOT).

ACTION: Final rule; request for comments.

SUMMARY: The FAA is adopting a new airworthiness directive (AD) for certain Airbus Model A340-541 and -642 airplanes. This AD requires a one-time inspection of the anti-stall valve sleeve of the ram air turbine (RAT) for proper installation, determining the part number of the modification plate on the hydraulic pump of the RAT, and follow-on corrective actions if necessary. This AD results from reports of failure of the anti-stall valve on the hydraulic pump of the RAT during scheduled ground tests. We are issuing this AD to prevent failure of the RAT hydraulic pump to supply adequate pressure to activate the RAT, and consequent loss of the RAT as a source of hydraulic and electrical power in an emergency situation.

DATES: This AD becomes effective September 21, 2006.

The Director of the Federal Register approved the incorporation by reference of a certain publication listed in the AD as of September 21, 2006.

We must receive comments on this AD by November 6, 2006.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Airbus, 1 Rond Point Maurice Bellonte, 31707 Blagnac Cedex, France, for service information identified in this AD.

FOR FURTHER INFORMATION CONTACT: Tim Backman, Aerospace Engineer, International Branch, ANM-116, Transport Airplane Directorate, FAA, 1601 Lind Avenue, SW., Renton, Washington 98057-3356; telephone (425) 227-2797; fax (425) 227-1149.

SUPPLEMENTARY INFORMATION:

Discussion

The European Aviation Safety Agency (EASA), which is the airworthiness authority for the European Union, notified us that an unsafe condition may exist on certain Airbus Model A340-541 and -642 airplanes. The EASA advises that operators have reported failure of the anti-stall valve on the hydraulic pump of the ram air turbine (RAT) during scheduled ground tests. Investigation revealed that this failure was due to poor installation of the anti-stall valve sleeve, causing a shift in the anti-stall speed setting and leading to inability to supply adequate pressure to activate the RAT. These conditions, if not corrected, could result in loss of the RAT as a source of hydraulic and electrical power in an emergency situation.

Relevant Service Information

Airbus has issued Service Bulletin A340-29-5010, including Appendix 01, dated October 10, 2005. The service bulletin describes procedures for determining the part number of the modification plate on the hydraulic pump of the ram air turbine (RAT), and follow-on corrective actions. The follow-on corrective actions include a one-time inspection of the anti-stall valve sleeve of the RAT for proper installation after determining the part number of the modification plate on the hydraulic pump of the RAT, reworking the anti-stall valve or replacing the RAT with a new RAT, and doing an operational test of the new RAT. Accomplishing the actions specified in the service information is intended to adequately address the unsafe condition. The EASA mandated the service information and issued airworthiness directive 2006-0046, dated February 16, 2006, to ensure the continued airworthiness of these airplanes in the European Union.

The Airbus service bulletin refers to Hamilton Sundstrand Service Bulletin ERPS33T-29-3, dated August 1, 2005, as an additional source of service information for accomplishing the actions.

FAA's Determination and Requirements of This AD

These airplane models are manufactured in France and are type certificated for operation in the United States under the provisions of section 21.29 of the Federal Aviation Regulations (14 CFR 21.29) and the applicable bilateral airworthiness agreement. As described in FAA Order 8100.14A, “Interim Procedures for Working with the European Community on Airworthiness Certification and Continued Airworthiness,” dated August 12, 2005, the EASA has kept the FAA informed of the situation described above. We have examined the EASA's findings, evaluated all pertinent information, and determined that we need to issue an AD for products of this type design that are certificated for operation in the United States.

Therefore, we are issuing this AD to prevent failure of the RAT hydraulic pump to supply adequate pressure to activate the RAT, and consequent loss of the RAT as a source of hydraulic and electrical power in an emergency situation. This AD requires accomplishing the actions specified in the Airbus service information described previously, except as discussed under “Differences Between the AD and the Airbus Service Bulletin.”

Differences Between the AD and the Airbus Service Bulletin

Unlike the procedures described in the service bulletin, the intent of the EASA airworthiness directive referenced in this AD is to mandate the one-time inspection of the anti-stall valve sleeve of the RAT for proper installation before determining the part number of the modification plate on the hydraulic pump of the RAT. If, after beginning the inspection, it is determined that the modification plate is already marked with a 'B' showing that the inspection was accomplished previously, no further action is required by this AD.

The service bulletin specifies returning any removed RAT to Hamilton Sundstrand; however, this AD does not require that action.

Clarification of Inspection Terminology

In this AD, the “inspection” specified in the service bulletin is referred to as a “general visual inspection.” We have included the definition for a general visual inspection in a note in the proposed AD.

Costs of Compliance

None of the airplanes affected by this action are on the U.S. Register. All airplanes affected by this AD are currently operated by non-U.S. operators under foreign registry; therefore, they are not directly affected by this AD action. However, we consider this AD necessary to ensure that the unsafe condition is addressed if any affected airplane is imported and placed on the U.S. Register in the future.

If an affected airplane is imported and placed on the U.S. Register in the future, the required actions would take about 1 work hour per airplane, at an average labor rate of $80 per work hour. Based on these figures, the estimated cost of the AD would be $80 per airplane.

FAA's Determination of the Effective Date

No airplane affected by this AD is currently on the U.S. Register. Therefore, providing notice and opportunity for public comment is unnecessary before this AD is issued, and this AD may be made effective in less than 30 days after it is published in the Federal Register.

Comments Invited

This AD is a final rule that involves requirements that affect flight safety and was not preceded by notice and an opportunity for public comment; however, we invite you to submit any relevant written data, views, or arguments regarding this AD. Send your comments to an address listed in the ADDRESSES section. Include “Docket No. FAA-2006-25722; Directorate Identifier 2006-NM-141-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-18-10 Airbus: Amendment 39-14749. Docket No. FAA-2006-25722; Directorate Identifier 2006-NM-141-AD.

Effective Date

(a) This AD becomes effective September 21, 2006.

Affected ADs

(b) None.

Applicability

(c) This AD applies to Airbus Model A340-541 and -642 airplanes, certificated in any category; equipped with a ram air turbine (RAT) module, Model ERPS33T, part number (P/N) 772722D or 772722E; serial numbers 0001 through 0024 inclusive, and 0101 through 0166 inclusive, having a Parker hydraulic pump with P/N 4217701 or 4217702.

Unsafe Condition

(d) This AD results from reports of failure of the anti-stall valve on the hydraulic pump of the RAT during scheduled ground tests. We are issuing this AD to prevent failure of the RAT hydraulic pump to supply adequate pressure to activate the RAT, and consequent loss of the RAT as a source of hydraulic and electrical power in an emergency situation.

Compliance

(e) You are responsible for having the actions required by this AD performed within the compliance times specified, unless the actions have already been done.

Inspection/Follow-on Corrective Actions if Necessary

(f) Within 11 months after the effective date of this AD: Do a one-time general visual inspection of the anti-stall valve sleeve of the RAT for proper installation, and determine the P/N of the modification plate on the hydraulic pump of the RAT, by doing all applicable actions, including all applicable follow-on corrective actions, in accordance with the Accomplishment Instructions of Airbus Service Bulletin A340-29-5010, dated October 10, 2005. All corrective actions must be done before further flight. Although the service bulletin specifies returning any removed RAT to Hamilton Sundstrand, this AD does not require that action.

Note 1: For the purposes of this AD, a general visual inspection is: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Note 2: The Airbus service bulletin refers to Hamilton Sundstrand Service Bulletin ERPS33T-29-3, dated August 1, 2005, as an additional source of service information for accomplishing the actions required by paragraph (f) of this AD.

Alternative Methods of Compliance (AMOCs)

(g)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(h) European Aviation Safety Agency (EASA) airworthiness directive 2006-0046, dated February 16, 2006, also addresses the subject of this AD.

Material Incorporated by Reference

(i) You must use Airbus Service Bulletin A340-29-5010, excluding Appendix 01, dated October 10, 2005, to perform the actions that are required by this AD, unless the AD specifies otherwise. The Director of the Federal Register approved the incorporation by reference of this document in accordance with 5 U.S.C. 552(a) and 1 CFR part 51. Contact Airbus, 1 Rond Point Maurice Bellonte, 31707 Blagnac Cedex, France, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on August 23, 2006.
Kalene C. Yanamura,
Acting Manager, Transport Airplane Directorate, Aircraft Certification Service.

[FR Doc. E6-14624 Filed 9-5-06; 8:45 am]

BILLING CODE 4910-13-P